DEPARTMENT OF STATE

[Public Notice: 12402]

Review of the Foreign Terrorist Organization Designation of al-Shabaab

Based upon a review of the Administrative Record assembled pursuant to Section 219(a)(4)(C) of the Immigration and Nationality Act, as amended (8 U.S.C. 1189(a)(4)(C)) (“INA”), and in consultation with the Attorney General and the Secretary of the Treasury, the Secretary of State has determined that the circumstances that were the basis for the designation of al-Shabaab (and other aliases) as a Foreign Terrorist Organization have not changed in such a manner as to warrant revocation of the designation and that the national security of the United States does not warrant a revocation of the designation.

Therefore, the Secretary of State has determined that the designation of the aforementioned organization, pursuant to Section 219 of the INA (8 U.S.C. 1189), shall be maintained.

This determination shall be published in the Federal Register.

Dated: May 2, 2024.
Elizabeth H. Richard,
Coordinator for Counterterrorism.

[FR Doc. 2024-14946 Filed 7-8-24; 8:45 am]

BILLING CODE 4710-AD-P